DEPARTMENT OF TRANSPORTATION

Office of the Secretary

Notice of Applications for Certificates of Public Convenience and Necessity and Foreign Air Carrier Permits Filed Under Subpart B (Formerly Subpart Q) During the Week Ending September 16, 2005

The following Applications for Certificates of Public Convenience and Necessity and Foreign Air Carrier Permits were filed under Subpart B (formerly Subpart Q) of the Department of Transportation's Procedural Regulations (See 14 CFR 301.201 et seq.). The due date for Answers, Conforming Applications, or Motions to Modify Scope are set forth below for each application. Following the Answer period DOT may process the application by expedited procedures. Such procedures may consist of the adoption of a show-cause order, a tentative order, or in appropriate cases a final order without further proceedings.

Docket Number: OST-2005-22228, OST-2005-22462.

Date Filed: September 13, 2005.

Due Date for Answers, Conforming Applications, or Motion to Modify Scope: October 4, 2005.

Description: Application of Air Wisconsin Airlines Corporation, requesting a certificate of public convenience and necessity from any point in the United States to any point in Canada and related integration authority pursuant to the notice issued by the Department of Transportation on August 26, 2005.

Docket Number: OST-2005-22467.

Date Filed: September 13, 2005.

Due Date for Answers, Conforming Applications, or Motion to Modify Scope: October 4, 2005.

Description: Joint application of Empire Airlines, Inc. and Northern Air Cargo, Inc., requesting a disclaimer of jurisdiction, or, in the alternative, approval of the de facto transfer of certain international certificate authority currently held by NAC pursuant to 49 U.S.C. 41105.

Docket Number: OST-2005-22506.

Date Filed: September 16, 2005.

Due Date for Answers, Conforming Applications, or Motion to Modify Scope: October 7, 2005.

Description: Application of Republic Airlines Inc. d/b/a Republic Airlines, requesting an exemption and a certificate of public convenience and necessity to provide scheduled foreign air transportation of persons, property and mail between points in the United States and points in Canada.

Renee V. Wright,
Program Manager, Docket Operations, Federal Register Liaison.

[FR Doc. 05-19964 Filed 10-4-05; 8:45 am]

BILLING CODE 4910-62-P